COMMISSION ON CIVIL RIGHTS

Agenda and Notice of Public Meeting of the Hawaii State Advisory Committee

Notice is hereby given, pursuant to the provisions of the rules and regulations of the U.S. Commission on Civil Rights and the regulations of the Federal Advisory Committee Act (FACA), that a subcommittee meeting of the Hawaii Advisory Committee will convene at 3 p.m. and adjourn at 7 p.m. on Wednesday, August 22, 2007 in Room 10A in the Science Building at the Maui Community College, 310 Ka'ahumanu, Kahului, Hawaii. The purpose of the meeting is to hear from members of the public their comments about the “The Native Hawaiian Government Reorganization Act of 2007,” also known as the Akaka bill, a bill that expresses the policy of the United States regarding the United States relationship with Native Hawaiians and provides a process for the recognition by the United States of the Native Hawaiian governing entity.

Members of the public are also entitled to submit written comments; the comments must be received in the Western Regional Office by September 1, 2007. The address is 300 North Los Angeles Street, Suite 2010, Los Angeles, CA 90012. Persons wishing to e-mail their comments, or to present their comments verbally at the meeting, or who desire additional information should contact Angelica Trevino, Administrative Assistant, Western Regional Office, U.S. Commission on Civil Rights at (213) 894-3437 [TDY] 213-894-3435], or by e-mail at atrevino@usccr.gov.

Hearing impaired persons who will attend the meeting and require the services of a sign language interpreter should contact the Eastern Regional Office at least three (3) working days before the scheduled date of the planning meeting.

Records generated from this meeting may be inspected and reproduced at the Western Regional Office, as they become available, both before and after the meeting. Persons interested in the work of this advisory committee are advised to go to the Commission's Web site, http://www.usccr.gov, or to contact the Eastern Regional Office at the above e-mail or street address.

The meeting will be conducted pursuant to the provisions of the rules and regulations of the Commission and FACA. It was not possible to publish this notice 15 days in advance of the meeting date because of internal processing delays.

Dated at Washington, DC, August 13, 2007.
Ivy L. Davis,
Acting Chief, Regional Programs Coordination Unit.

[FR Doc. E7-16150 Filed 8-15-07; 8:45 am]

BILLING CODE 6335-01-P